DEPARTMENT OF ENERGY

Federal Energy Regulatory Commission

Notice of Draft License Application and Preliminary Draft Environmental Assessment (PDEA) and Request for Preliminary Terms and Conditions

May 16, 2002.

Take notice that the following hydroelectric application has been filed with the Commission and is available for public inspection.

a. Type of Application: New Major License.

b. Project No.: P-2177.

c. Applicant: Georgia Power Company.

d. Name of Project: Middle Chattahoochee Hydroelectric Project.

e. Location: On the Chattahoochee River, in Harris and Muscogee Counties, Georgia and Lee and Russell Counties, Alabama.

f. Applicant Contact: Chris M. Hobson, Vice President, Environmental Affairs, Georgia Power Company, 241 Ralph McGill Boulevard NE, Bin 10221, Atlanta, GA 30308.

g. FERC Contact: Ronald McKitrick, (770) 452-2272, E-mail: ronald.mckitrick@ferc.gov.

h. Georgia Power Company mailed a copy of the PDEA to interested parties on May 14, 2002. The Commission received a copy of the PDEA on May 15, 2002.

i. Status of Project: With this notice the Commission is soliciting (1) preliminary terms, conditions, and recommendations on the PDEA, and (2) comments on the PDEA and the Draft Application.

j. Deadline for filing: August 13, 2002.

All comments on the PDEA and Draft Application should be sent to the addresses noted above in Item (f), with one copy filed with FERC at the following address: Magalie R. Salas, Secretary, Federal Energy Regulatory Commission, 888 First Street, NE, Washington, DC 20426. All comments must include the project name and number and bear the heading Preliminary Comments, Preliminary Recommendations, Preliminary Terms and Conditions, or Preliminary Prescriptions.

Comments and preliminary recommendations, terms and conditions, and prescriptions may be filed electronically via the Internet in lie of paper. See 18 CFR 385.2001(a)(1)(iii) and the instructions on the Commission's web site (http://www.ferc.gov) under the “e-Filing” link.

k. A copy of the application is on file with the Commission and is available for public inspection. This filing may also be viewed on the web at http://www.ferc.gov using the “RIMS” link—select “Docket #” and follow the instructions (call 202-208-2222 for assistance).

Georgia Power Company has mailed a copy of the Preliminary DEA and Draft Application to interested entities and parties. Copies of these documents are available for review at Georgia Power Company Relicensing Public Library, or by calling (404) 506-1357 or by e-mailing gamartin@southernco.com.

l. With this notice, we are initiating consultation with the STATE HISTORIC PRESERVATION OFFICER (SHPO), as required by Section 106, National Historic Preservation Act, and the regulations of the Advisory Council on Historic Preservation, 36 CFR 800.4.

Linwood A. Watson, Jr.,
Deputy Secretary.

[FR Doc. 02-12962 Filed 5-22-02; 8:45 am]

BILLING CODE 6717-01-M